COMMISSION ON CIVIL RIGHTS

Sunshine Act Meeting

Agency: U.S. Commission on Civil Rights.

Date and Time: Friday, July 19, 2002 9 a.m.

Place: OMNI Detroit River Place, Hotel, 1000 River Place, Detroit, MI 48207.

Status:

Agenda

I. Approval of Agenda

II. Approval of Minutes of June 21, 2002 Meeting

III. Announcements

IV. Staff Director's Report

V. State Advisory Committee Appointments for Florida and Kentucky

VI. Discussion of the Statutory report, “Ten-Year Check-Up: Have Federal Agencies Responded to Civil Rights Directives?”

VII. Discussion of staff report and recommendations on the civil rights implications of welfare reauthorization

VIII. Presentations from Midwest Regional SAC members on post-9/11 and other civil rights issues in their states, and by individuals and organizational representatives on post-9/11 issues affecting Arab and Muslim Americans in Michigan and the midwestern region

IX. Future Agenda Items

Contact Person For Further Information: Les Jin, Press and Communications (202) 376-7700.

Debra A. Carr,
Deputy General Counsel.

[FR Doc. 02-17763 Filed 7-10-02; 4:00 pm]

BILLING CODE 6335-01-M